DEPARTMENT OF HOMELAND SECURITY

Coast Guard

33 CFR Parts 3 and 165

[Docket No. USCG-2010-0351]

RIN 1625-ZA25

Navigation and Navigable Waters; Technical, Organizational, and Conforming Amendments, Sector Columbia River; Correction

AGENCY: Coast Guard, DHS.

ACTION: Final rule; correction.

SUMMARY: The Coast Guard published in the Federal Register of August 11, 2010, a document concerning non-substantive changes to Title 33 Parts 3 and 165 of the Code of Federal Regulations. That publication contained several errors regarding the name of the Sector that was being disestablished and one being established in its place. In addition, there was an error in amendatory instruction 5. This document corrects these errors.

DATES: This correction is effective August 18, 2010.

FOR FURTHER INFORMATION CONTACT: If you have questions on this rule, call or e-mail Lt. Matthew Jones, Coast Guard; telephone 206-220-7110, e-mail Matthew.m.jones@uscg.mil. If you have questions on viewing the docket, call Renee V. Wright, Program Manager, Docket Operations, telephone 202-366-9826.

SUPPLEMENTARY INFORMATION: In FR doc 2010-19754 appearing on page 48564 in the issue of Wednesday, August 11, 2010, the following corrections are made:

1. In the document heading on page 48564, correct the subject heading to read “Navigation and Navigable Waters; Technical, Organizational, and Conforming Amendments, Sector Columbia River.”

2. On page 48564, in the first column, revise the summary section to read as follows:

“This rule makes non-substantive changes throughout our regulations. The purpose of this rule is to make conforming amendments and technical corrections to reflect the combination and renaming of Sector Portland and Group/Air Station Astoria to Sector Columbia River as part of the Coast Guard reorganization.”

3. On page 48564, in the second column, revise the discussion of rule section to read as follows:

“This rule revises 33 CFR parts 3 and 165 to reflect changes in Coast Guard internal organizational structure. Sector Portland and Group/Air Station Astoria have been disestablished and Sector Columbia River has been established in their place. The new Sector begins operations on August 23, 2010. This rule revises 33 CFR parts 3 and 165 to reflect the Sector Columbia River and Captain of the Port Zone name change in current regulations. This rule is a technical revision reflecting changes in agency procedure and organization, and does not indicate new authorities nor create any substantive requirements.”

4. On page 48565, in the third column, revise amendatory instruction number 5 to read as follows:

“In § 165.1312(b), remove the phrase “Coast Guard Captain of the Port, Portland” and add, in its place, the phrase “Captain of the Port Columbia River”.”

Dated: August 13, 2010.
Steve Venckus,
Chief, Office of Regulations and Administrative Law, United States Coast Guard.

[FR Doc. 2010-20509 Filed 8-17-10; 8:45 am]

BILLING CODE P